DEPARTMENT OF COMMERCE

National Oceanic and Atmospheric Administration

RIN: 0648-XF63

North Pacific Fishery Management Council; Public Meeting

AGENCY: National Marine Fisheries Service (NMFS), National Oceanic and Atmospheric Administration (NOAA), Commerce.

ACTION: Notice of a public meeting of the North Pacific Fishery Management Council Pacific Northwest Crab Industry Advisory Committee (PNCIAC)

SUMMARY: The North Pacific Fishery Management Council's (Council) Crab Committee will meet.

DATES: The meeting will be held on February 28, 2008, from 9 a.m. to 1 p.m.

ADDRESSES: The meeting will be held at the Leif Erikson Hall, 2247 NW 57th Street, Seattle, WA.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The PNCIAC will review the Bering Sea Aleutian Island king and Tanner Crab fisheries proposals to be acted upon at the March 3-9, 2008, Alaska Board of Fisheries meeting in Anchorage, AK; informational update and discussion of the NPFMC motion on Economic Data Report.

Special Accommodations

This meeting is physically accessible to people with disabilities. Requests for sign language interpretation or other auxiliary aids should be directed to Gail Bendixen, (907) 271-2809, at least 5 working days prior to the meeting date.

Dated: February 12, 2008.
Tracey L. Thompson,
Acting Director, Office of Sustainable Fisheries, National Marine Fisheries Service.

[FR Doc. E8-2876 Filed 2-14-08; 8:45 am]

BILLING CODE 3510-22-S